DEPARTMENT OF AGRICULTURE

Farm Service Agency

[Docket ID FSA-2022-0011]

Information Collection Request; In-Person and Online Registration for FSA-Hosted Events and Conferences

AGENCY: Farm Service Agency, Department of Agriculture (USDA).

ACTION: Notice; request for comment.

SUMMARY: In accordance with the Paperwork Reduction Act of 1995, the Farm Service Agency (FSA) is requesting comments from all interested individuals and organizations on a revision and an extension of the information collection associated with online and in-person registration for FSA-hosted events and conferences. The information collection is needed for FSA to obtain information from the respondents who register on the internet to access and make preparation for participation in events, and when necessary, to make payment and reservations to attend any FSA-hosted conferences and events. Additionally, the demographic data collected through this information collection assists FSA in monitoring its outreach and engagement of farmers and ranchers.

DATES: We will consider comments that we receive by November 21, 2022.

ADDRESSES: We invite you to submit comments on the information collection request. You may submit comments by any of the following methods, although FSA prefers that you submit comments electronically through the Federal eRulemaking Portal:

• Federal eRulemaking Portal: Go to https://www.regulations.gov and search for Docket ID FSA-2022-0004. Follow the online instructions for submitting comments.

• Mail, Hand-Delivery, or Courier: Farm Service Agency, USDA, Kaley Grimland, Program Analyst, 1400 Independence Avenue, Mail Stop 0539 SW, Washington, DC 20250. In your comment, specify the docket ID FSA-2022-0011.

All comments will be posted without change and publicly available on https://www.regulations.gov.

FOR FURTHER INFORMATION CONTACT: Kaley Grimland telephone: 831-975-7769; email: Kaley.Grimland@usda.gov. Persons with disabilities who require alternative means for communication should contact the USDA Target Center at (202) 720-2600 (voice).

SUPPLEMENTARY INFORMATION:

Description of Information Collection

Title: In-Person and Online Registration for FSA-hosted Events and Conferences.

OMB Control Number: 0560-0226.

Expiration Date of Approval: November 30, 2022.

Type of Request: Extension with a Revision.

Abstract: The collection of information is needed for FSA to obtain information from the respondents who register on the internet to access participation in events, and when necessary, to make payment and reservations to attend any FSA-hosted conferences and events. They can register on FSA's Online Registration site on the internet. Respondents who do not have access to the internet can register by mail or fax. The information is collected by the FSA employees who host the conferences and events. FSA is collecting common elements from interested respondents such as name, organization, address, country, phone number, email address, State, city or town, payment options (credit card, check), special accommodations requests and how the respondent learned of the conference. The information collection element may also include race, ethnicity, gender and veteran status, and new farmer status. The respondents are mainly individuals who will attend the FSA-hosted conferences or events. The information is primarily used to assess attendance and assist FSA staff in preparations to serve individuals registering for online or in person events. If applicable, the information collection may be used to collect payment from the respondents and make hotel reservations and other special arrangements as necessary. Race, ethnicity, gender, and other demographic information obtained through registration is voluntary, and is used to monitor FSA's outreach and engagement of farmers and ranchers, including historically underserved farmers and ranchers. FSA defines historically underserved as a community made up of a group whose members have been subjected to racial or ethnic prejudice because of their identity as members of a group without regard to their individual qualities. Those groups include African Americans, American Indians or Alaskan natives, Hispanics, and Asians or Pacific Islanders and women. This information is not used to evaluate any FSA program application and choosing not to provide this information will not affect the application process for any individual applying to an FSA program.

The burden hours increased by 41,025 hours due to the revamped and improved registration format. FSA intends to obtain manual registration at in-person outreach events, which has not previously been done, and has also increased the number of on-line outreach events requiring registration. The number of respondents and responses increased by 549,100 so the total number of 550,000 is currently reflected in the request.

For the following estimated total annual burden on respondents, the formula used to calculate the total burden hour is the estimated average time per responses hours multiplied by the estimated total annual of responses.

Estimate of Annual Burden: Public reporting burden for this collection of information is estimated to average 0.075 hours per response. (4.5 minutes).

Type of Respondents: Individuals, Business or other for-profit, non-for-profit institutions, Farms, Federal Government, State, Local, or Tribal Government.

Estimated Number of Respondents: 550,000.

Estimated Annual Number of Responses per Respondent: 1.

Estimated Total Annual of Responses: 550,000.

Estimated Average Time per Responses: 0.075 hours.

Estimated Total Annual Burden on Respondents: 41,250 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

William Marlow,
Acting Administrator, Farm Service Agency.

[FR Doc. 2022-20266 Filed 9-19-22; 8:45 am]

BILLING CODE 3410-05-P